DEPARTMENT OF JUSTICE

Antitrust Division

Notice Pursuant to the National Cooperative Research and Production Act of 1993—Opendaylight Project, Inc.

Notice is hereby given that, on August 14, 2013, pursuant to Section 6(a) of the National Cooperative Research and Production Act of 1993, 15 U.S.C. 4301 et seq. (“the Act”), OpenDaylight Project, Inc. (“OpenDaylight”) has filed written notifications simultaneously with the Attorney General and the Federal Trade Commission disclosing changes in its membership. The notifications were filed for the purpose of extending the Act's provisions limiting the recovery of antitrust plaintiffs to actual damages under specified circumstances. Specifically, Adva Optical Networking SE., Munich, Germany; Versa Networks, Santa Clara, CA; Guavus, San Mateo, CA; Pantheon Technologies, Bratislava, Slovakia; and Plexxi Inc., Cambridge, MA, have been added as parties to this venture.

In addition, Big Switch Networks, Mountain View, CA has withdrawn as a party to this venture.

No other changes have been made in either the membership or planned activity of the group research project. Membership in this group research project remains open, and OpenDaylight intends to file additional written notifications disclosing all changes in membership.

On May 23, 2013, OpenDaylight filed its original notification pursuant to Section 6(a) of the Act. The Department of Justice published a notice in the Federal Register pursuant to Section 6(b) of the Act on July 1, 2013 (78 FR 39326).

Patricia A. Brink,
Director of Civil Enforcement, Antitrust Division.

[FR Doc. 2013-22395 Filed 9-13-13; 8:45 am]

BILLING CODE P